DEPARTMENT OF LABOR

Wage and Hour Division

RIN 1235-0018

Extension of the Approval of Information Collection Requirements

AGENCY: Wage and Hour Division, Department of Labor.

ACTION: Notice.

SUMMARY: The Paperwork Reduction Act of 1995 (PRA), 44 U.S.C. 3501 et seq., and its attendant regulations, 5 CFR part 1320, require that the Department consider the impact of paperwork and other information collection burdens imposed on the public. Under the PRA, an agency many not collect or sponsor the collection of information, nor may it impose an information collection requirement unless it displays a currently valid Office of Management and Budget (OMB) control number. See 5 CFR 1320.8(b)(3)(vi). The OMB has assigned control number 1235-0018 to the Fair Labor Standards Act (FLSA) information collections. In accordance with the PRA, the Department solicited comments on the FLSA information collections as they were proposed to be changed by a Notice of Proposed Rulemaking published December 27, 2011 (76 FR 81199-200). 44 U.S.C. 3506(c)(2). The Department also submitted a contemporaneous request for OMB review of the proposed revisions to the FLSA information collections, in accordance with 44 U.S.C. 3507(d). On February 29, 2012, the OMB issued a notice that continued the previous approval of the FLSA information collections under the existing terms of clearance. (See OMB ICR Reference no. 201205-1235-002 http://www.reginfo.gov/public/do/PRAViewICR?ref_nbr=201205-1235-002). The OMB asked the Department to resubmit the information collection request upon promulgation of a Final Rule, after considering public comments on the December 27, 2011 Notice of Proposed Rulemaking. The Department published Application of the Fair Labor Standards Act to Domestic Service; Final Rule, in the Federal Register on October 1, 2013 (78 FR 60454). At the time of publication, the Department stated its intent to publish a notice announcing OMB's decision regarding the information collection (78 FR 60497).

Notice is hereby given that the OMB has approved the extension of the existing information collections under control number 1235-0018. The OMB has also pre-approved changes in the information collections that result from the Application of the Fair Labor Standards Act to Domestic Service; Final Rule; these changes become effective January 1, 2015.

Dated: October 24, 2013.
Mary Ziegler,
Director, Division of Regulations, Legislation, and Interpretation.

[FR Doc. 2013-25598 Filed 10-29-13; 8:45 am]

BILLING CODE 4510-27-P